DEPARTMENT OF ENERGY

Federal Energy Regulatory Commission

[Docket No. CP22-141-000]

Great Basin Gas Transmission Company; Notice of Schedule for the Preparation of an Environmental Assessment for the 2023 Mainline Replacement Project

On March 30, 2022, Great Basin Gas Transmission Company (Great Basin) filed an application in Docket No. CP22-141-000 requesting a Certificate of Public Convenience and Necessity pursuant to Section 7(c) to construct and operate certain natural gas pipeline facilities and Authorization pursuant to Section 7(b) of the Natural Gas Act to abandon certain natural gas pipeline facilities. The proposed project is known as the 2023 Mainline Replacement Project (Project) and would involve abandoning and replacing a segment of pipeline in Humboldt County, Nevada to address indications that the subject pipeline segment is approaching the end of its useful life.

On April 13, 2022, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA—November 10, 2022

90-day Federal Authorization Decision Deadline ²—February 8, 2023

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

Great Basin proposes to abandon in-place approximately 20.4 miles of its existing 16-inch-diameter steel pipeline and construct, as replacement, approximately 20.4 miles of new 16-inch-diameter steel pipeline in Humboldt County, Nevada. The replacement pipeline would be constructed approximately 20 feet from the existing pipeline to be abandoned beginning just south of US-95, north of Winnemucca, Nevada, and ending south of State Highway 49/Jungo Road near Great Basin's existing Elko Lateral Tap. The Project would also include removal of existing valves and replacement with new valves and associated appurtenances within Great Basin's existing Elko Lateral Tap.

Background

On May 16, 2022, the Commission issued a Notice of Scoping Period Requesting Comments on Environmental Issues for the Proposed 2023 Mainline Replacement Project and Notice of Public Scoping Session (Notice of Scoping). The Notice of Scoping was sent to affected landowners; federal, state, and local government agencies; elected officials; environmental and public interest groups; Native American tribes; other interested parties; and local libraries and newspapers. In response to the Notice of Scoping, the Commission received comments from the Nevada State Historic Preservation Officer, Environmental Protection Agency, and Teamsters National Pipeline Labor Management Cooperation Trust. The primary issues and topics raised by the commenters are consultation under Section 106 of the National Historic Preservation Act and recommendations for what the environmental analysis should include regarding purpose and need, alternatives, scope of the assessment, environmental baseline, climate change, air quality, water resources, spills and hazardous materials, habitat and wildlife, environmental justice, land use, tribal consultations, and monitoring and adaptive management. We also received a comment letter promoting the use of Teamster union member pipeline workers and its union contractors to build the Project. All substantive comments will be addressed in the EA.

The Bureau of Land Management and Environmental Protection Agency are cooperating agencies in the preparation of the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP22-141), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: July 7, 2022.
Kimberly D. Bose,
Secretary.

[FR Doc. 2022-14920 Filed 7-12-22; 8:45 am]

BILLING CODE 6717-01-P